DEPARTMENT OF LABOR

Employment and Training Administration

[TA-W-81,475]

Huntington Foam LLC, Fort Smith, AR; Notice of Revised Determination on Reconsideration

On August 8, 2012, the Department of Labor issued a Notice of Affirmative Determination Regarding Application for Reconsideration applicable to workers and former workers of Huntington Foam LLC, Fort Smith, Arkansas (subject firm). The workers are engaged in activities related to the production of expanded polystyrene shape molded parts (packaging and internal components for side-by-side refrigerators). The worker group does not include any on-site leased workers.

Workers of the subject firm was previously certified eligible to apply for Trade Adjustment Assistance (TAA) under TA-W-73,292 (certification expired on May 24, 2012).

Section 222(a)(1) has been met because a significant number or proportion of the workers in the subject firm have become totally or partially separated, or are threatened with such separation.

Based on information provided during the reconsideration investigation, the Department determines that worker separations at the subject firm are related to a shift in production of expanded polystyrene shape molded parts (or like or directly competitive articles) to a foreign country and that the shift in production contributed importantly to worker separations at the subject firm.

Conclusion

After careful review of the additional facts obtained during the reconsideration investigation, I determine that workers of Huntington Foam LLC, Fort Smith, Arkansas, who were engaged in employment related to the production of expanded polystyrene shape molded parts, meet the worker group certification criteria under Section 222(a) of the Act, 19 U.S.C. 2272(a). In accordance with Section 223 of the Act, 19 U.S.C. 2273, I make the following certification:

All workers of Huntington Foam LLC, Fort Smith, Arkansas who became totally or partially separated from employment on or after May 25, 2012, through two years from the date of certification, and all workers in the group threatened with total or partial separation from employment on the date of certification through two years from the date of certification, are eligible to apply for adjustment assistance under Chapter 2 of Title II of the Trade Act of 1974, as amended.

Signed at Washington, DC, this 9th day of November, 2012.
Del Min Amy Chen,
Certifying Officer, Office of Trade Adjustment Assistance.

[FR Doc. 2012-29059 Filed 11-30-12; 8:45 am]

BILLING CODE 4510-FN-P